DEPARTMENT OF TRANSPORTATION

Pipeline and Hazardous Materials Safety Administration

49 CFR Part 191

[Docket No. PHMSA-2025-0108; Amdt. Nos. 191-35]

RIN 2137-AF77

Pipeline Safety: Adjust Annual Report Filing Timelines

AGENCY: Pipeline and Hazardous Materials Safety Administration (PHMSA), Department of Transportation (DOT).

ACTION: Direct final rule (DFR); request for comments.

SUMMARY: This DFR extends the deadline for submitting annual reports for operators of gas distribution pipelines, gas transmission pipelines, regulated gas gathering pipelines, Type R gas gathering lines, underground natural gas storage facilities, and liquefied natural gas facilities. Annual reports for gas pipeline and gas pipeline storage facilities are now due on June 15, consistent with existing requirements for hazardous liquid pipelines.

DATES: The DFR is effective October 9, 2025, unless adverse comments are received by September 2, 2025. If adverse comments are received, notification will be published in the Federal Register before the effective date either withdrawing the rule (in its entirety or portions thereof) or issuing a new final rule which responds to those comments.

ADDRESSES: You may submit comments identified by the Docket Number PHMSA-2025-0108 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

For commenting instructions and additional information about commenting, see SUPPLEMENTARY INFORMATION.

FOR FURTHER INFORMATION CONTACT: Sayler Palabrica, Transportation Specialist, 1200 New Jersey Avenue SE, Washington, DC 20590, 202-744-0825, sayler.palabrica@dot.gov.

SUPPLEMENTARY INFORMATION:

I. General Discussion

Through this DFR, PHMSA is extending the deadline for submitting annual reports for gas pipelines required by PHMSA in 49 CFR part 191. Unlike ad-hoc reports for incidents, accidents, and safety-related conditions that are driven by the occurrence of certain consequential events, annual reports consist of summary information of mileage and performance indicators for the previous calendar year. While this information is useful to PHMSA, operators, and the general public, it is not urgent like notifications to the National Response Center or reports of incidents and accidents.

The March 15 deadline for submitting annual reports in part 191 was established in 1984 (87 FR 18956 (May 3, 1984)). At that time, the annual report form for gas distribution lines was two pages long and the annual report form for gas transmission and regulated gas gathering lines was a single page (87 FR 18956 (May 3, 1984)). The information collected on annual report forms has expanded significantly in the ensuing decades to support the implementation of new regulatory programs, including damage prevention program requirements, gas transmission and gas distribution integrity management program requirements in subparts O and P, and the adoption of entirely new categories of regulated gas gathering lines and regulated underground natural gas storage facilities (UNGSF).

Currently, the gas distribution annual report form is 4 pages long, the annual report form for gas transmission and regulated gas gathering is 22 pages long, and the UNGSF annual report form is 3 pages long. Though important, the amount of information that operators must collect and report for the entire preceding calendar year is far more significant than in 1984, and operators must complete that task in a very short (three-month) period of time. In contrast, PHMSA provides hazardous liquid and carbon dioxide pipeline operators with a much longer (six-month) period of time to submit the comparable annual report form under 49 CFR 195.49.

Recently submitted public comments have identified the deadline for submitting annual reports under part 191 as imposing an unnecessary regulatory burden that increases compliance costs (90 FR 14593, Docket No. DOT-OST-2025-0026). The current 3-month deadline for submitting annual reports requires operators to pay employees overtime or engage additional contract support that has no impact on addressing pipeline safety or protecting the environment (Docket No. DOT-OST-2025-0026-0897). To the extent that these efforts draw limited resources away from operator efforts to comply with substantive, safety-enhancing requirements, the existing annual report timelines may be detrimental to public safety. These burdens and safety impacts are compounded for operators that manage multiple types of facilities jurisdictional to PHMSA.

For these reasons, PHMSA is extending the deadline for submitting gas pipeline annual reports in part 191 from March 15 to June 15. This new deadline aligns with the comparable requirements for hazardous liquid pipelines in § 195.49. While this change does not affect the scope or total burden of preparing and submitting annual reports, PHMSA expects extending the compliance timeline will result in cost savings from reducing the need to rely on contractors or overtime to meet current three-month filing window. The reporting requirements that are extended to June 15 are listed in the table below.

Table 1—Summary of Affected Reporting Requirements
Facilities | Section | Form
Gas Distribution | § 191.11(a) | PHMSA Form F7100.1-1.
Gas Transmission, Offshore Gas Gathering, and Regulated Onshore Gas Gathering | § 191.17(a)(1) | PHMSA Form F7100.2-1.
Type R Gas Gathering | § 191.17(a)(2) | PHMSA Form F7100.2-3.
Liquefied Natural Gas Facilities | § 191.17(b) | PHMSA Form F7100.3-1.
UNGSF | § 191.17(c) | PHMSA Form F7100.4-1.

Commenting

Instructions: Please include the docket number PHMSA-2025-0108 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 United State Code (U.S.C.) 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) 190.343, you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Sayler Palabrica, Office of Pipeline Safety, Pipeline and Hazardous Materials Safety Administration (PHMSA), 2nd Floor, 1200 New Jersey Avenue SE, Washington, DC 20590-0001, or by email at sayler.palabrica@dot.gov. Any materials PHMSA receives that is not specifically designated as CBI will be placed in the public docket.

Docket: For access to the docket to read background documents or comments received, go to http://www.regulations.gov. Follow the online instructions for accessing the docket. Alternatively, you may review the documents in person at the street address listed above.

II. Regulatory Analysis and Notices

A. Legal Authority

This direct final rule is published under the authority of the Secretary of Transportation as set forth in the Federal Pipeline Safety Laws (49 U.S.C. 60101 et seq.) and delegated to the PHMSA Administrator pursuant to 49 CFR 1.97. Upon evaluation, and for the reasons explained above, PHMSA has determined that this direct final rule is unlikely to elicit significant adverse comment. See 49 U.S.C. 60102(b)(6)(A); 49 CFR 190.339.

B. Executive Order 12866; Regulatory Planning and Review

Executive Order (E.O.) 12866 (“Regulatory Planning and Review”; 58 FR 51735 (Oct. 4, 1993)), as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

E.O. 12866 and DOT Order 2100.6B also require that PHMSA submit “significant regulatory actions” to the Office of Information and Regulatory Affairs (OIRA) within the Executive Office of the President's Office of Management and Budget (OMB) for review. This direct final rule is a not significant regulatory action pursuant to E.O. 12866; it also has not designated this rule as a “major rule” as defined by the Congressional Review Act (5 U.S.C. 801 et seq.).

PHMSA has complied with the procedural and analytical requirements in E.O. 12866 as implemented by DOT Order 2100.6B. In so doing, PHMSA has determined that this direct final rule will result in significant cost savings by reducing regulatory burdens and regulatory uncertainty for pipeline facility operators by reducing costs from overtime or contractor support needed to meet excessively strict regulatory deadlines. PHMSA expects those cost savings will also result in reduced costs for the public to whom pipeline operators generally transfer a portion of their compliance costs. The cost savings of this rulemaking could not be quantified.

C. Executive Orders 14192 and 14219

This final rule will be a deregulatory action pursuant to E.O. 14192 (“Unleashing Prosperity Through Deregulation”; (90 FR 9065 (Feb. 6, 2025)). PHMSA estimates that the total costs of the rule on the regulated community will be less than zero. Nor does this rulemaking implicate any of the factors identified in section 2(a) of E.O. 14219 (“Ensuring Lawful Governance and Implementing the President's `Department of Government Efficiency' Deregulatory Initiative”) indicative that a regulation is “unlawful . . . [or] that undermine[s] the national interest.” (90 FR 10583 (Feb. 25, 2025).

D. Energy-Related Executive Orders 13211, 14154, and 14156

The President has declared in E.O. 14156 (“Declaring a National Energy Emergency”; (90 FR 8353 (Jan. 29, 2025)) a national emergency to address America's inadequate energy development production, transportation, refining, and generation capacity. Similarly, E.O. 14154 (“Unleashing American Energy,” (90 FR 8353 (Jan. 29, 2025)) asserts a Federal policy to unleash American energy by ensuing access to abundant supplies of reliable, affordable energy from (inter alia) the removal of “undue burden[s]” on the identification, development, or use of domestic energy resources such as PHMSA-jurisdictional gasses and hazardous liquids. PHMSA finds this direct final rule is consistent with each of E.O. 14156 and E.O. 14154. The direct final rule will give affected pipeline operators cost savings associated with preparing annual reports. PHMSA therefore expects the regulatory amendments in this direct final rule will in turn increase national pipeline transportation capacity and improve pipeline operators' ability to provide abundant, reliable, affordable natural gas in response to residential, commercial, and industrial demand.

However, this direct final rule is not a “significant energy action” under E.O. 13211 (“Actions Concerning Regulations That Significantly Affect Energy Supply, Distribution, or Use”; (66 FR 28355 (May 22, 2001)), which requires Federal agencies to prepare a Statement of Energy Effects for any “significant energy action.” Because this direct final rule is not a significant action under E.O. 12866, it will not have a significant adverse effect on supply, distribution, or energy use; OIRA has therefore not designated this direct final rule as a significant energy action.

E. Executive Order 13132: Federalism

PHMSA analyzed this direct final rule in accordance with the principles and criteria contained in E.O. 13132 (“Federalism”; 64 FR 43255 (Aug. 10, 1999)) and the Presidential Memorandum (“Preemption”) published in the Federal Register on May 22, 2009 (74 FR 24693). E.O. 13132 requires agencies to ensure meaningful and timely input by State and local officials in the development of regulatory policies that may have “substantial direct effects on the States, on the relationship between the National Government and the States, or on the distribution of power and responsibilities among the various levels of government.”

While the direct final rule may operate to preempt some State requirements, it will not impose any regulation that has substantial direct effects on the States, the relationship between the National Government and the States, or the distribution of power and responsibilities among the various levels of government. Section 60104(c) of Federal Pipeline Safety Laws prohibits certain State safety regulation of interstate pipelines. Under Federal Pipeline Safety Laws, States that have submitted a current certification under section 60105(a) can augment Federal pipeline safety requirements for intrastate pipelines regulated by PHMSA but may not approve safety requirements less stringent than those required by Federal law. A State may also regulate an intrastate pipeline facility that PHMSA does not regulate. The preemptive effect of the regulatory amendments in this direct final rule is limited to the minimum level necessary to achieve the objectives of the Federal Pipeline Safety Laws. Therefore, the consultation and funding requirements of E.O. 13132 do not apply.

F. Regulatory Flexibility Act

The Regulatory Flexibility Act (5 U.S.C. 601 et seq.) requires Federal agencies to conduct a Final Regulatory Flexibility Analysis (FRFA) for a direct final rule subject to notice-and-comment rulemaking under the Administrative Procedure Act unless the agency head certifies that the proposed rulemaking will not have a significant economic impact on a substantial number of small entities. E.O. 13272 (“Proper Consideration of Small Entities in Agency Rulemaking”; 67 FR 53461 (Aug. 16, 2002)) obliges agencies to establish procedures promoting compliance with the Regulatory Flexibility Act. DOT posts its implementing guidance on a dedicated web page. This direct final rule was developed in accordance with E.O. 13272 and DOT implementing guidance to ensure compliance with the Regulatory Flexibility Act. PHMSA expects that this direct final rule will relieve a regulatory burden and therefore PHMSA certifies the direct final rule will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed or direct final rule that includes a Federal mandate that may result in the expenditure by state, local, and Tribal governments, in the aggregate of $100 million or more (in 1996 dollars) in any given year, the agency must prepare, amongst other things, a written statement that qualitatively and quantitatively assesses the costs and benefits of the Federal mandate.

This direct final rule does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this direct final rule in accordance with NEPA and issues this Finding of No Significant Impact (FONSI), as it has determined that the rulemaking will not adversely affect safety and therefore will not significantly affect the quality of the human and natural environment.

I. Executive Order 13175

PHMSA analyzed this direct final rule according to the principles and criteria in E.O. 13175 (“Consultation and Coordination with Indian Tribal Governments”; 65 FR 67249 (Nov. 9, 2000)) and DOT Order 5301.1A (“Department of Transportation Tribal Consultation Polices and Procedures”). E.O. 13175 requires agencies to assure meaningful and timely input from Tribal government representatives in the development of rules that significantly or uniquely affect Tribal communities by imposing “substantial direct compliance costs” or “substantial direct effects” on such communities or the relationship or distribution of power between the Federal Government and Tribes.

PHMSA assessed the impact of the direct final rule and determined that it will not significantly or uniquely affect Tribal communities or Indian Tribal governments. The rulemaking's regulatory amendments have a broad, national scope; therefore, this direct final rule will not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking will not create nor rescind any existing information collections; however, this rulemaking provides for a 30-day comment period. After the effective date of the final rule, PHMSA will request amendment of the pertinent information collections consistent with Paperwork Reduction Act requirements and implementing guidance.

K. Executive Order 13609 and International Trade Analysis

E.O. 13609 (“Promoting International Regulatory Cooperation”; 77 FR 26413 (May 4, 2012)) requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the direct final rule and has determined that its regulatory amendments will not cause unnecessary obstacles to foreign trade.

L. Cybersecurity and Executive Order 14028

E.O. 14028 (“Improving the Nation's Cybersecurity”; 86 FR 26633 (May 17, 2021)) directed the Federal Government to improve its efforts to identify, deter, and respond to “persistent and increasingly sophisticated malicious cyber campaigns.” PHMSA has considered the effects of the direct final rule and has determined that its regulatory amendments will not materially affect the cybersecurity risk profile for pipeline facilities.

List of Subjects in 49 CFR Part 191

Pipeline Safety, Reporting and recordkeeping requirements.

In consideration of the foregoing, PHMSA amends 49 CFR part 191, as follows:

PART 191—TRANSPORTATION OF NATURAL AND OTHER GAS BY PIPELINE; ANNUAL, INCIDENT, AND OTHER REPORTING

1. The authority citation for part 191 continues to read as follows:

Authority: 30 U.S.C. 185(w)(3), 49 U.S.C. 5121, 60101 et seq., and 49 CFR 1.97.

§ 191.11 [Amended]

2. In § 191.11(a), remove the word “March” and add in its place the word “June”.

§ 191.17 [Amended]

3. In § 191.17(a)(1), (a)(2), (b), and (c) remove the phrase “March 15” wherever it appears and add in its place the phrase “June 15”.

Issued in Washington, DC, on June 26, 2025, under the authority delegated in 49 CFR 1.97.
Benjamin D. Kochman,
Acting Administrator.

[FR Doc. 2025-12112 Filed 6-27-25; 4:15 pm]

BILLING CODE 4910-60-P